DEPARTMENT OF DEFENSE

Department of the Army

Privacy Act of the 1974; System of Records

AGENCY: Department of the Army, DOD.

ACTION: Notice to amend preamble to systems of records notices.

SUMMARY: The Department of the Army is amending the Preamble to the Army's compilation of Privacy Act systems of records notices. The amendments consist of updating the For Further Assistance: and Points of Contact: entries, and adding GSA/GOVT-5 to the list of government-wide notice.

DATES: This proposed action will be effective without further notice on February 26, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

Dated: January 19, 2001.
L. M. Bynum,
Alternate OSD Federal Register Liaison Officer, Department of Defense.

United States Army

How Systems of Records Are Arranged

Department of the Army records are identified by the directive number which prescribes the records created, maintained and used, and are published in numerical sequence by identification number. For example, a system of records about assignment of military personnel may be found in the 614 series; assignments, details and transfers'. Some subjects, such as investigations, are treated as sub-elements of a series, e.g., ‘criminal investigations’, ‘security’, and ‘military intelligence’.

How to Use the Index Guide

To locate a particular system of records, follow this general guide. The series subject corresponds to the system identification number. For example: medical records for military and civilian personnel are in the 40 series. The first letter, ‘A’, represents the Army, the number 40-66 is the prescribing directive, and the suffix letters are internal management devices.

For Further Assistance

Any questions should be addressed to the Records Management Division, U.S. Army Records Management and Declassification Agency, ATTN: TAPC-PDD-RP, Stop 5603, 6000 6th Street, Ft. Belvoir, VA 22060-5603.

Points of Contact

Ms. Janice Thornton at (703) 806-4390 or DSN 656-4390 or Ms. Christie King at (703) 806-3711 or DSN 656-3711.

Subject Series—System Identification Series

A0001—Office Administration Housekeeping Files

A0015—Boards, Commissions, and Committees Files

A0020—Inspector General Assistance, Inspections Investigation, and Follow-up Files

A0025—Information Management Files

A0027—Legal Services Files

A0030—Food Program Files

A0037—Financial Administration/Management Files

A0040—Medical Services Files

A0055—Transportation and Travel Files

A0056—Surface Transportation Files

A0060—Exchange Service Files

A0065—Postal Services Files

A0070—Research, Development, and Acquisition Files

A0095—Aviation Files

A0135—General Army National Guard and Army Reserve Files

A0140—U.S. Army Reserve Files

A0145—Reserve Officers Training Corps (ROTC) Files

A0165—Religious Activity Files

A0190—Military Police Files

A0195—Criminal Investigation Files

A0210—Army Installations Files

A0215—Morale, Welfare, and Recreation/Non-appropriated Funds (NAF) Files

A0220—Military Personnel Data Files

A0340—Army Privacy Program Files

A0350—Training and Evaluation Files

A0351—Army Schools Files

A0352—Dependent's Education Files

A0360—Army and Public Information Files

A0380—Security Information Files

A0381—Military Intelligence Files

A0385—Safety Files

A0405—Homeowners Assistance/Real Estate Files

A0570—Human Resources Information Files

A0600—General/Military Personnel Management Files

A0601—Military Personnel Procurement Files

A0602—Behavioral and Social Sciences Files

A0608—Personal Affairs Files

A0614—Assignments, Details, and Transfers Files

A0621—Education Files

A0635—Officer/Enlisted Personnel Separation Files

A0640—Personnel Management and Identification of Individuals Files

A0672—Decorations, Awards, and Honors Files

A0680—Personnel Information System Files

A0690—Civilian Personnel Files

A0710—Inventory Management Files

A0715—Procurement Files

A0725—Requisition and Issue of Supplies and Equipment Files

A0735—Library Borrowers'/Users' Files

A0870—Army History Files

A0920—Civilian Marksmanship Program Files

A0930—Army Emergency Relief Transaction Files

A1105—Corps of Engineers Planning Files

A1130—Corps of Engineers Civilian Uniform Files

A1145—Corps of Engineers Regulator Functions Files

Army and Air Force Exchange Service (AAFES)

AAFES 02—Executive Management Records

AAFES 04—Personnel Management Records

AAFES 05—Information and Public Relations Records

AAFES 06—Legal and Legislative Records

AAFES 07—Financial Management Records

AAFES 09—Automated Data Processing Records

AAFES 12—Procurement Records

AAFES 15—Transportation Records

AAFES 16—Pans and Management Records

AAFES 17—Safety and Security Records

In Addition, the Department of the Army Maintains Systems of Records in Accordance with Government-Wide Privacy Act Systems of Records Notices.

Equal Employment Opportunity Commission

EEOC/GOVT-1—Equal Employment Opportunity in the Federal Government Complaint and Appeal Records

Federal Emergency Management Agency

FEMA/GOVT-1—National Defense Executive Reserve System

General Services Administration

GSA/GOVT-2—Employment Under Commercial Activities Contracts

GSA/GOVT-3—Travel Charge Card Program

GSA/GOVT-4—Contracted Travel Service Program

GSA/GOVT-5—Access Certificates for Electronic Services (ACES)

Department of Labor

DOL/GOVT-1—Office of Workers' Compensation Programs, Federal Employees' Compensation Act File

DOL/GOVT-2—Job Corps Student Records

Merit Systems Protection Board

MSPB/GOVT-1—Appeal and Case Records

Office of Government Ethics

OGE/GOVT-1—Executive Branch Public Financial Disclosure Reports and Other Ethics Program Records

OGE/GOVT-2—Confidential Statements of Employment and Financial Interests

Office of Personnel Management

OPM/GOVT-1—General Personnel Records

OPM/GOVT-2—Employee Performance File System Records

OPM/GOVT-3—Records of Adverse Actions, Performance Based Reduction in Grade and Removal Actions, and Termination of Probationers

OPM/GOVT-4—[Reserved]

OPM/GOVT-5—Recruiting, Examining, and Placement Records

OPM/GOVT-6—Personnel Research and Test Validation Records

OPM/GOVT-7—Applicant Race, Sex, National Origin, and Disability Status Records

OPM/GOVT-8—[Reserved]

OPM/GOVT-9—File on Position Classification Appeals, Job Grading Appeals, and Retained Grade or Pay Appeals

OPM/GOVT-10—Employee Medical File System Records

Requesting Records

Records are retrieved by name or by some other personal identifier. It is therefore especially important for expeditious service when requesting a record that particular attention be provided to the Notification and/or Access Procedures of the particular record system involved so as to furnish the required personal identifiers, or any other pertinent personal information as may be required to locate and retrieve the record.

Blanket Routine Uses

Certain “blanket routine uses” of the records have been established that are applicable to every record system maintained within the Department of Defense unless specifically stated otherwise within a particular record system. These additional blanket routine uses of the records are published below only once in the interest of simplicity, economy and to avoid redundancy.

Law Enforcement Blanket Routine Use

In the event that a system of records maintained by this component to carry out its functions indicates a violation or potential violation of law, whether civil, criminal or regulatory in nature, and whether arising by general statute or by regulation, rule or order issued pursuant thereto, the relevant records in the system of records may be referred, as a routine use, to the appropriate agency, whether Federal, state, local, or foreign, charged with the responsibility of investigating or prosecuting such violation or charged with enforcing or implementing the statute, rule, regulation or order issued pursuant thereto.

Disclosure When Requesting Information Blanket Routine Use

A record from a system of records maintained by this component may be disclosed as a routine use to a Federal, state, or local agency maintaining civil, criminal, or other relevant enforcement information or other pertinent information, such as current licenses, if necessary to obtain information relevant to a component decision concerning the hiring or retention of an employee, the issuance of a security clearance, the letting of a contract, or the issuance of a license, grant or other benefit.

Disclosure of Requested Information Blanket Routine Use

A record from a system of records maintained by this component may be disclosed to a Federal agency, in response to its request, in connection with the hiring or retention of an employee, the issuance of a security clearance, the reporting of an investigation of an employee, the letting of a contract, or the issuance of a license, grant or other benefit by the requesting agency, to the extent that the information is relevant and necessary to the requesting agency's decision on the matter.

Congressional Inquiries Blanket Routine Use

Disclosure from a system of records maintained by this component may be made to a Congressional office from the record of an individual in response to an inquiry from the Congressional office made at the request of that individual.

Private Relief Legislation Blanket Routine Use

Relevant information contained in all systems of records of the Department of Defense published on or before August 22, 1975, may be disclosed to the Office of Management and Budget in connection with the review of private relief legislation as set forth in OMB Circular A-19 at any stage of the legislative coordination and clearance process as set forth in that Circular.

Disclosures Required by International Agreements Blanket Routine Use

A record from a system of records maintained by this component may be disclosed to foreign law enforcement, security, investigatory, or administrative authorities in order to comply with requirements imposed by, or to claim rights conferred in, international agreements and arrangements including those regulating the stationing and status in foreign countries of Department of Defense military and civilian personnel.

Disclosure to State and Local Taxing Authorities Blanket Routine Use

Any information normally contained in IRS Form W-2 which is maintained in a record from a system of records maintained by this component may be disclosed to state and local taxing authorities with which the Secretary of the Treasury has entered into agreements pursuant to Title 5, U.S. Code, Sections 5516, 5517, 5520, and only to those state and local taxing authorities for which an employee or military member is or was subject to tax regardless of whether tax is or was withheld. This routine use in in accordance with Treasury Fiscal Requirements Manual Bulletin Number 76-07.

Disclosure to the Office of Personnel Management Blanket Routine Use

A record from a system of records subject to the Privacy Act and maintained by this component may be disclosed to the Office of Personnel Management concerning information on pay and leave, benefits, retirement deductions, and any other information necessary for the Office of Personnel Management to carry out its legally authorized Government-wide personnel management functions and studies.

Disclosure to the Department of Justice for Litigation Blanket Routine Use

A record from a system of records maintained by this component may be disclosed as a routine use to any component of the Department of Justice for the purpose of representing the Department of Defense, or any officer, employee or member of the Department in pending or potential litigation to which the record is pertinent.

Disclosure to Military Banking Facilities Overseas Blanket Routine Use

Information as to current military addresses and assignments may be provided to military banking facilities who provide banking services overseas and who are reimbursed by the Government for certain checking and loan losses. For personnel separated, discharged, or retired from the Armed Forces, information as to last known residential or home of record address may be provided to the military banking facility upon certification by a banking facility officer that the facility has a returned or dishonored check negotiated by the individual or the individual has defaulted on a loan and that if restitution is not made by the individual, the U.S. Government will be liable for the losses the facility may incur.

Disclosure of Information to the General Services Administration Blanket Routine Use

A record from a system of records maintained by this component may be disclosed as a routine use to the General Services Administration for the purpose of records management inspections conducted under authority of 44 U.S.C. 2904 and 2906.

Disclosure of Information to the National Archives and Records Administration Blanket Routine Use

A record from a system of records maintained by this component may be disclosed as a routine use to the National Archives and Records Administration for the purpose of records management inspections conducted under authority of 44 U.S.C. 2904 and 2906.

Disclosure to the Merit Systems Protection Board Blanket Routine Use

A record from a system of records maintained by this component may be disclosed as a routine use to the Merit Systems Protection Board, including the Office of the Special Counsel for the purpose of litigation, including administrative proceedings, appeals, special studies of the civil service and other merit systems, review of OPM or component rules and regulations, investigation of alleged or possible prohibited personnel practices; including administrative proceedings involving any individual subject of the DOD investigation, and such other functions, promulgate din 5 U.S.C. 1205 and 1206, or as may be authorized by law.

Counterintelligence Purposes Blanket Routine Use

A record from a system of records maintained by this component may be disclosed as a routine use outside the DOD or the U.S. Government for the purpose of counterintelligence activities authorized by U.S. law or Executive Order or for the purpose of enforcing laws which protect the national security of the United States.

* * * * *

[FR Doc. 01-2277 Filed 1-24-01; 8:45 am]

BILLING CODE 5001-10-M